ENVIRONMENTAL PROTECTION AGENCY

[FRL-9900-84-OA]

Notification of Public Teleconference of the Hydraulic Fracturing Research Advisory Panel

AGENCY: Environmental Protection Agency (EPA).

ACTION: Notice.

SUMMARY: The Environmental Protection Agency (EPA) Science Advisory Board (SAB) Staff Office announces a public teleconference of the Hydraulic Fracturing Research Advisory Panel to receive written and oral comments from the public on new and emerging information related to hydraulic fracturing and drinking water resources.

DATES: The public teleconference will be held on November 20, 2013, from 12:00 p.m. to 5:00 p.m. (Eastern Daylight Time).

ADDRESSES: The teleconference will be conducted by telephone only.

FOR FURTHER INFORMATION CONTACT: Any member of the public who wants further information concerning the teleconference may contact Mr. Edward Hanlon, Designated Federal Officer (DFO), EPA Science Advisory Board (1400R), U.S. Environmental Protection Agency, 1200 Pennsylvania Avenue NW., Washington, DC 20460; via telephone/voicemail at (202) 564-2134, fax at (202) 565-2098; or email at hanlon.edward@epa.gov. General information concerning the SAB can be found on the EPA Web site at http://www.epa.gov/sab.

SUPPLEMENTARY INFORMATION:

Background: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB and the SAB Hydraulic Fracturing Research Advisory Panel will comply with the provisions of FACA and all appropriate SAB Staff Office procedural policies. Pursuant to FACA and EPA policy, notice is hereby given that the SAB Hydraulic Fracturing Research Advisory Panel will hold a public teleconference to receive written and oral comments from the public on new and emerging information related to hydraulic fracturing and drinking water resources.

In response to public concern, in August 2010 Congress urged EPA to study the relationship between hydraulic fracturing and drinking water. In March 2013, the SAB Staff Office formed an SAB panel to provide individual expert advice for the EPA's Office of Research and Development (ORD) on its ongoing research on the potential impacts of hydraulic fracturing on drinking water resources. Information about panel formation and activities can be found at http://yosemite.epa.gov/sab/sabproduct.nsf/02ad90b136fc21ef85256eba00436459/b436304ba804e3f885257a5b00521b3b!OpenDocument&TableRow=2.0#2.

The Panel held a May 7-8, 2013 meeting in Arlington Virginia where individual members of the Panel provided their individual expert comments on charge questions associated with research described in ORD's Study of the Potential Impacts of Hydraulic Fracturing on Drinking Water Resources: Progress Report, released in December 2012. At the May 2013 meeting, the SAB Staff Office announced there would be opportunity for the public to provide new and emerging information related to hydraulic fracturing to the Panel. The information provided to the Panel will serve as background to assist the Panel in its review of the EPA's draft report on the potential impacts of hydraulic fracturing on drinking water resources. This report is scheduled for completion in December 2014. The SAB will hold a public teleconference to provide opportunity to receive information from the public.

Availability of Meeting Materials: The agenda and other materials in support of the November 20, 2013 teleconference call will be available on the SAB Web site at http://www.epa.gov/sab in advance of the teleconference call.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments for consideration by the Panel. Input from the public to the SAB will have the most impact if it provides specific scientific or technical information or analysis for the SAB to consider or if it relates to the clarity or accuracy of the technical information.

For the November 20, 2013 telephone conference meeting, members of the public are encouraged to provide written and oral comments on new and emerging information related to hydraulic fracturing and drinking water resources. Members of the public wishing to provide comment should contact the DFO directly.

Oral Statements: In general, individuals or groups requesting an oral presentation at a public teleconference will be limited to five minutes. Persons interested in providing oral statements at the November 20, 2013 teleconference meeting should contact Mr. Hanlon at the contact information provided above by November 13, 2013.

Written Statements: Written statements for the November 20, 2013 teleconference meeting should be received in the SAB Staff Office by November 13, 2013, so that the information may be made available to the SAB for its consideration prior to this meeting and teleconference call. Written statements should be supplied to the DFO in the following formats: either an electronic copy (preferred), via email (acceptable file format: Adobe Acrobat PDF, MS Word, WordPerfect, MS PowerPoint, or Rich Text files in IBM-PC/Windows 98/2000/XP format), or in hard copy. Submitters are asked to provide electronic versions of each document submitted without signatures, because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Hanlon, at the phone number or email address noted above, preferably at least ten days prior to the meeting and teleconference call, to give the EPA as much time as possible to process your request.

Dated: August 29, 2013.
Thomas H. Brennan,
Deputy Director, Science Advisory Board Staff Office.

[FR Doc. 2013-22027 Filed 9-9-13; 8:45 am]

BILLING CODE 6560-50-P